DEPARTMENT OF LABOR

Employment and Training Administration

[TA-W-38,496]

Dynamic Metal Forming, Inc., Koppel, Pennsylvania; Dismissal of Application for Reconsideration

Pursuant to 29 CFR 90.18(C) an application for administrative reconsideration was filed with the Director of the Division of Trade Adjustment Assistance for workers at Dynamic Metal Forming, Inc., Koppel, Pennsylvania. The application contained no new substantial information which would bear importantly on the Department's determination. Therefore, dismissal of the application was issued.

TA-W-38,496; Dynamic Metal Forming, Inc., Koppel, Pennsylvania (May 24, 2001)

Signed at Washington, DC this 25th day of May, 2001.
Edward A. Tomchick,
Director, Division of Trade Adjustment Assistance.

[FR Doc. 01-14414 Filed 6-7-01; 8:45 am]

BILLING CODE 4510-30-M